DEPARTMENT OF JUSTICE

Notice of Lodging of Consent Decree Pursuant to the Oil Pollution Act of 1990

Notice is hereby given that a proposed consent decree in the action entitled United States v. Amity Products Carriers, Inc., Civil Action No. 00-11-P-H, was lodged on January 7, 2000, with the United States District Court for the District of Maine. The proposed consent decree resolves the claims of the United States under Section 1002(b)(2)(A) of the Oil Pollution Act of 1990 (“OPA”), 33 U.S.C. § 2702(b)(2)(A), against Amity Products Carriers, Inc. (“Settling Defendant”), in connection with the oil spill that occurred, on September 27, 1996, as a result of the collision of the Tank Vessel Julie N with the Million Dollar Bridge spanning the Fore River from Portland to South Portland, Maine, which resulted in the discharge of oil into the Fore River. The proposed consent decree also resolves the claims of the United States against Maritime Overseas Corporation, OSG Ship Management, Inc., as well as the officers, directors, and employees of those companies, as well as of the Settling Defendant, to the extent that their liability arises from actions taken in their official capacities as officers, directors, and employees of these corporations. The proposed settlement resolves the claims filed in a complaint on January 7, 2000. The complaint alleges, pursuant to Section 1002(b)(2)(A) of OPA, 33 U.S.C. § 2702(b)(2)(A), that Settling Defendant, the owner of the Julie N at the time of the spill, is liable for damages for injury to, destruction of, loss of, or loss of use of, natural resources, including the reasonable costs of assessing the damage. The proposed consent decree also resolves the claims of the State of Maine set forth in a similar complaint filed on January 7, 2000. See State of Maine v. Amity Products Carriers, Inc., Civil Action No. 00-12-P-H.

Pursuant to the proposed consent decree, the Settling Defendant will make a payment of $1 million to the Julie N Oil Spill Restoration Account, which shall be used by Federal and State natural resource trustees to plan, implement or oversee restoration of the natural resources injured by the Julie N spill in accordance with the Restoration Plan attached as Appendix B to the proposed consent decree. Pursuant to the Restoration Plan, the Trustees will use the funds to implement and oversee three restoration projects: a project intended to reduce the discharge of oil and grease from the streets of Portland into the Fore River, a project that will enhance a portion of the Scarborough Marsh, and a project that will involve the construction of a one-mile segment of a larger trail system in Portland. The Settling Defendant has already paid the trustees their costs of assessment, including $410,000 to the National Oceanic and Atmospheric Administration, $53,057.09 to U.S. Department of the Interior, and $24,531.79 to the State of Maine.

The Settling Defendant has agreed not to file claims against the United States in connection with the Julie N spill, but has reserved the right to submit claims for removal costs or damages with the Oil Spill Liability Trust Fund under Section 1013 of OPA, 33 U.S.C. § 2713, to the extent permitted by Section 1008 of OPA, 33 U.S.C. § 2708.

The Department of Justice will receive, for a period of forty-five (45) days from the date of this publication, comments relating to the proposed consent decree, including comments concerning the Restoration Plan attached as Appendix B to the proposed consent decree. Any comments should be addressed to Lois J. Schiffer, Assistant Attorney General, U.S. Department of Justice, Environment and Natural Resource Division, P.O. Box 7611, Washington, D.C. 20044. Comments should state “Attention: Don Frankel” and refer to United States v. Amity Products Carriers, Inc., DOJ Ref. Number 90-5-1-1-4390.

The proposed consent decree may be examined at the offices of the United States Attorney's Office for the District of Maine, East Tower, Sixth Floor, One Hundred Middle Street Plaza, Portland, ME 04101 (contact David Collins, 207-780-3257). A copy of the proposed consent decree may be obtained by mail from the Department of Justice Consent Decree Library, P.O. Box 7611, Washington, D.C. 20044. In requesting a copy, please refer to the referenced case and enclose a check in the amount of $18.00 (25 cents per page reproduction costs).

Bruce Gelber,
Deputy Section Chief, Environmental Enforcement Section, Environment and Natural Resources Division.

[FR Doc. 00-1612 Filed 1-21-00; 8:45am]

BILLING CODE 4410-15-M